COMMISSION ON CIVIL RIGHTS

Sunshine Act Meetings

AGENCY: United States Commission on Civil Rights.

ACTION: Notice of meeting.

DATE AND TIME: Friday, May 18, 2012; 9:30 a.m. EDT.

PLACE: 624 Ninth Street NW., Room 540, Washington, DC 20425.

MEETING AGENDA This meeting is open to the public.

I. Approval of Agenda

II. Approval of the March 9, 2012 Meeting Minutes

III. Program Planning Update and discussion of projects:

• Strategic Planning Process

• Discussion on 2013 Statutory Report Selection Process

IV. Management and Operations

• Chief of Regional Programs' report

• Discussion on Agency Staffing

V. Adjourn Meeting

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: May 4, 2012.
Kimberly Tolhurst,
Senior Attorney-Advisor.

[FR Doc. 2012-11385 Filed 5-8-12; 11:15 am]

BILLING CODE 6335-01-P